FEDERAL MARITIME COMMISSION

Meetings; Sunshine Act

AGENCY HOLDING THE MEETING: Federal Maritime Commission.

TIME AND DATE: December 17, 2008— 10 a.m.

PLACE: 800 North Capitol Street, NW., First Floor Hearing Room, Washington, DC.

STATUS: A portion of the meeting will be in Open Session and the remainder of the meeting will be in Closed Session.

MATTERS TO BE CONSIDERED:

Open Session

(1) Budget Status Report.

Closed Session

(1) FMC Agreement No. 201199—Port Fee Services Agreement.

(2) Staff Briefing Regarding Global Economic Downturn and Potential Impact on Stakeholders—Possible Update.

(3) Internal Administrative Practices and Personnel Matters.

CONTACT PERSON FOR MORE INFORMATION: Tanga S. FitzGibbon, Alternate Federal Register Liaison Officer, (202) 523-5725.

Tanga S. FitzGibbon,
Alternate Federal Register Liaison Officer.

[FR Doc. E8-29462 Filed 12-9-08; 4:15 pm]

BILLING CODE 6730-01-P